DEPARTMENT OF VETERANS AFFAIRS

Solicitation of Nominations for Appointment to the Geriatrics and Gerontology Advisory Committee

ACTION: Notice.

SUMMARY: The Department of Veterans Affairs (VA) Office of Geriatrics and Extended Care is seeking nominations of qualified candidates to be considered for appointment as a member of the Geriatrics and Gerontology Advisory Committee (“Committee”). The Committee advises VA on all matters pertaining to geriatrics and gerontology.

DATES: Nominations of qualified candidates are being sought to fill two vacancies on the Committee. Nominations for membership on the Committee must be received no later than 5:00 p.m. EST on September 30, 2018.

ADDRESSES: All nominations should be mailed to Ms. Alejandra Paulovich, Designated Federal Officer (DFO), Geriatrics and Gerontology Advisory Committee (GGAC), Department of Veterans Affairs, 810 Vermont Ave. NW, (10NC4), Washington, DC 20420 or emailed to Alejandra.Paulovich@va.gov.

FOR FURTHER INFORMATION CONTACT: Ms. Alejandra Paulovich, DFO, GGAC, by phone at (202) 461-6016 or by email at Alejandra.Paulovich@va.gov. A copy of the Committee charter and list of the current membership can also be obtained by contacting Ms. Paulovich.

SUPPLEMENTARY INFORMATION: The Committee is authorized by statute, title 38 U.S.C § 7315, to advise on all matters pertaining to geriatrics and gerontology and to (1) assess (through an evaluation process that includes a site visit conducted no later than 3 years after its establishment) each new VA Geriatric Research, Education, and Clinical Center on its ability to achieve its established mission; (2) assess the capability of VA to provide high-quality geriatric, extended, and other health care services to eligible Veterans, taking into consideration the likely demand for such services from such Veterans; (3) assess the current and projected needs of eligible Veterans for geriatric, extended care, and other health care services from VA and its activities and plans designed to meet such needs; and (4) perform such additional functions as the Secretary or Under Secretary for Health may direct. The Committee provides, not later than December 1 of each year, an annual report summarizing its activities for the preceding year.

Membership Criteria and Qualifications: The Committee is comprised of not more than 12 non-Federal employee members appointed for a 4-year term. The Committee's membership includes individuals who have demonstrated interest and expertise in research, education, and clinical activities relating to aging.

The expertise sought includes, but is not limited to, the following:

a. familiarity or experience with VA and/or non-VA health systems;

b. familiarity or experience with academic geriatric and gerontology programs;

c. familiarity or experience with palliative medicine, home and community-based care, and nursing home care;

d. familiarity or experience with grant-funded academic research;

e. familiarity or experience with clinical and health policies concerning the elderly;

f. familiarity or experience with the partnerships between VA academic programs;

g. familiarity with the history of geriatrics in the VA and in the U.S.;

h. familiarity or experience with VA's Geriatric Research, Education, and Clinical Centers.

Membership Requirements: The Committee holds at least one face-to-face meeting in Washington DC and conducts 4-5 site visits a year. The ideal candidate will be willing to travel 3-5 times per year to help the Committee fulfill its objectives. In accordance with Federal Travel Regulations, VA will cover travel expenses—to include per diem—for all members of the Committee, for any travel associated with official Committee duties.

The Committee's membership is characterized by a range of backgrounds and knowledge appropriate to carry out its statutory obligations in advising VA. VA strives to develop a Committee membership that includes diversity in military service (e.g. rank, branch and era of service, deployments), diversity of professional experience and work with Veterans, diversity of subject matter expertise, and diversity in race/ethnicity, gender, religion, disability, geographical background, and profession. We ask that nominations include information of this type so that VA can ensure diverse Committee membership.

Requirements for Nomination Submission: Nominations should be typed (one nomination per nominator). Nomination package should include:

(1) A letter of nomination that clearly states the name and affiliation of the nominee, the basis for the nomination (i.e. specific attributes which qualify the nominee for service in this capacity), and a statement from the nominee indicating the willingness to serve as a member of the Committee;

(2) The nominee's contact information, including name, mailing address, telephone numbers, and email address;

(3) The nominee's curriculum vitae; and

(4) A summary of the nominee's experience and qualifications relative to the membership considerations described above.

The Department makes every effort to ensure that the membership of VA federal advisory committees is diverse in terms of points of view represented and the committee's capabilities. Appointments to this Committee shall be made without discrimination because of a person's race, color, religion, sex, sexual orientation, gender identify, national origin, age, disability, or genetic information.

Dated: July 26, 2018.
LaTonya L. Small,
Federal Advisory Committee Management Officer.

[FR Doc. 2018-16400 Filed 7-31-18; 8:45 am]

BILLING CODE 8320-01-P